DEPARTMENT OF ENERGY

Federal Energy Regulatory Commission

Combined Notice of Filings #2

Take notice that the Commission received the following electric rate filings:

Docket Numbers: ER12-622-001.

Applicants: PJM Interconnection, L.L.C., Virginia Electric and Power Company.

Description: Dominion submits Compliance Filing correcting Metadata Section Title SA No. 3151 to be effective 1/1/2012.

Filed Date: 2/7/12.

Accession Number: 20120207-5083.

Comments Due: 5 p.m. ET 2/28/12.

Docket Numbers: ER12-995-000.

Applicants: Cherokee County Cogeneration Partners, LLC.

Description: Amendment to Market-Based Rate Application to be effective 1/7/2012.

Filed Date: 2/3/12.

Accession Number: 20120203-5174.

Comments Due: 5 p.m. ET 2/17/12.

Docket Numbers: ER12-1012-000.

Applicants: Midwest Independent Transmission System Operator, Inc., ITC Midwest LLC.

Description: ITCM-ComEd CAIC agreement to be effective 2/8/2012.

Filed Date: 2/7/12.

Accession Number: 20120207-5032.

Comments Due: 5 p.m. ET 2/28/12.

Docket Numbers: ER12-1013-000.

Applicants: Physical Systems Integration, LLC.

Description: Physical Systems Integration, LLC—MBR Application to be effective 3/1/2012.

Filed Date: 2/7/12.

Accession Number: 20120207-5033.

Comments Due: 5 p.m. ET 2/28/12.

Docket Numbers: ER12-1014-000.

Applicants: PJM Interconnection, L.L.C.

Description: PJM Original Service Agreement No. 3188; Queue No. W3-135 to be effective 1/16/2012.

Filed Date: 2/7/12.

Accession Number: 20120207-5058.

Comments Due: 5 p.m. ET 2/28/12.

Docket Numbers: ER12-1016-000.

Applicants: Appalachian Power Company.

Description: 20120207 Attachment K and L Revision to be effective 3/2/2012.

Filed Date: 2/7/12.

Accession Number: 20120207-5082.

Comments Due: 5 p.m. ET 2/28/12.

The filings are accessible in the Commission's eLibrary system by clicking on the links or querying the docket number.

Any person desiring to intervene or protest in any of the above proceedings must file in accordance with Rules 211 and 214 of the Commission's Regulations (18 CFR 385.211 and 385.214) on or before 5:00 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2012.
Nathaniel J. Davis, Sr.,
Deputy Secretary.

[FR Doc. 2012-3383 Filed 2-13-12; 8:45 am]

BILLING CODE 6717-01-P